DEPARTMENT OF TRANSPORTATION

Federal Aviation Administration

14 CFR Part 39

[Docket No. FAA-2015-1427; Directorate Identifier 2013-NM-203-AD; Amendment 39-18380; AD 2016-02-01]

RIN 2120-AA64

Airworthiness Directives; Airbus Airplanes

AGENCY: Federal Aviation Administration (FAA), Department of Transportation (DOT).

ACTION: Final rule.

SUMMARY: We are superseding Airworthiness Directive (AD) 96-18-06 for certain Airbus Model A320-211 and -231 airplanes. AD 96-18-06 required visual inspections to detect cracks of the pressurized floor fittings at frame 36, and renewal of the zone protective finish or replacement of fittings with new fittings if necessary. Since we issued AD 96-18-06, an extended service goal analysis by the manufacturer revealed that the compliance times and repetitive inspection intervals should be reduced to meet the design service goal. This AD retains the requirements of AD 96-18-06, with reduced compliance times and repetitive inspection intervals. This AD also adds Model A320-212 airplanes to the applicability. We are issuing this AD to detect and correct fatigue cracking in the pressurized floor fittings at frame 36, which could result in failure of a floor fitting and subsequent depressurization of the fuselage.

DATES: This AD becomes effective March 3, 2016.

The Director of the Federal Register approved the incorporation by reference of certain publications listed in this AD as of March 3, 2016.

The Director of the Federal Register approved the incorporation by reference of a certain other publication listed in this AD as of October 10, 1996.

ADDRESSES: You may examine the AD docket on the Internet at http://www.regulations.gov/#!docketDetail;D=FAA-2015-1427; or in person at the Docket Management Facility, U.S. Department of Transportation, Docket Operations, M-30, West Building Ground Floor, Room W12-140, 1200 New Jersey Avenue SE., Washington, DC.

For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-1427.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 96-18-06, Amendment 39-9730 (61 FR 46703, September 5, 1996). AD 96-18-06 applied to certain Airbus Model A320-111, -211, and -231 series airplanes. The NPRM published in the Federal Register on June 5, 2015 (80 FR 32055) (“the NPRM”).

The European Aviation Safety Agency (EASA), which is the Technical Agency for the Member States of the European Union, has issued EASA Airworthiness Directive 2013-0226, dated September 23, 2013 (referred to after this as the Mandatory Continuing Airworthiness Information, or “the MCAI”), to correct an unsafe condition for Airbus Model A320-211, -212, and -231 airplanes. The MCAI states:

During center fuselage certification full scale fatigue test, damage was found on the pressurized floor fittings at Frame 36, below the lower surface panel.

This condition, if not detected and corrected, could affect the structural integrity of the aeroplane.

To prevent such damage, Airbus developed modification 21282, which was introduced in production from [manufacturer serial number] MSN 0105, to reinforce the pressurized floor fitting lower surface by changing material. For affected in-service aeroplanes, Airbus issued Service Bulletin (SB) A320-57-1028, introducing repetitive inspections, and SB A320-57-1029, which provides modification instructions.

DGAC [Direction Générale de l'Aviation Civile] France issued [an] AD * * * [for Model A320-111, -211, and -231 airplanes] to require these repetitive inspections and, depending on findings, corrective action(s), while the modification was specified in that AD as optional terminating action for these inspections.

Following new analysis in the frame of ESG (Extended Service Goal) exercise, the inspection thresholds and intervals have been revised to meet the original DSG (Design Service Goal).

For the reasons described above, this [EASA] AD retains the requirements of [a] DGAC France AD * * *, which is superseded, but requires these actions within reduced compliance times. [This EASA AD also adds Model A320-212 airplanes to its applicability.]

You may examine the MCAI in the AD docket on the Internet at http://www.regulations.gov/#!documentDetail;D=FAA-2015-1427-0002.

Comments

We gave the public the opportunity to participate in developing this AD. We received no comments on the NPRM or on the determination of the cost to the public.

Conclusion

We reviewed the available data and determined that air safety and the public interest require adopting this AD as proposed except for the change described previously and minor editorial changes. We have determined that these changes:

• Are consistent with the intent that was proposed in the NPRM for correcting the unsafe condition; and

• Do not add any additional burden upon the public than was already proposed in the NPRM.

Related Service Information Under 1 CFR Part 51

Airbus has issued Service Bulletin A320-57-1028, Revision 1, dated April 19, 1996; and Revision 02, dated June 3, 2013. The service information describes procedures for an inspection to detect cracks of the pressurized floor fittings at frame 36, renewal of the zone protective finish, and replacement of fittings with new fittings.

Airbus has also issued Service Bulletin A320-57-1029, Revision 02, dated June 16, 1999. The service information describes procedures for modification of the pressurized floor fittings at frame 36.

This service information is reasonably available because the interested parties have access to it through their normal course of business or by the means identified in the ADDRESSES section.' TAG FOUND; PLEASE REVIEW ALL TAGGING IN PREVIOUS PARAGRAPH -->

Costs of Compliance

We estimate that this AD affects 13 airplanes of U.S. registry.

The actions required by AD 96-18-06, Amendment 39-9730 (61 FR 46703, September 5, 1996), and retained in this AD take about 3 work-hours per product, at an average labor rate of $85 per work-hour. Required parts cost about $0 per product. Based on these figures, the estimated cost of the actions that are required by AD 96-18-06 is $255 per product.

We also estimate that it will take about 11 work-hours per product to comply with the new basic requirements of this AD. The average labor rate is $85 per work-hour. Required parts will cost about $0 per product. Based on these figures, we estimate the cost of this AD on U.S. operators to be $12,155, or $935 per product.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-1427; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 96-18-06, Amendment 39-9730 (61 FR 46703, September 5, 1996), and adding the following new AD:

2016-02-01 Airbus: Amendment 39-18380. Docket No. FAA-2015-1427; Directorate Identifier 2013-NM-203-AD.

(a) Effective Date

This AD becomes effective March 3, 2016.

(b) Affected ADs

This AD replaces AD 96-18-06, Amendment 39-9730 (61 FR 46703, September 5, 1996).

(c) Applicability

This AD applies to Airbus Model A320-211, -212, and -231 airplanes, certificated in any category, manufacturer serial numbers 0002 through 0104 inclusive.

(d) Subject

Air Transport Association (ATA) of America Code 57, Wings.

(e) Reason

This AD was prompted by an extended service goal analysis by the manufacturer, which revealed that the compliance times and repetitive inspection intervals should be reduced to meet the design service goal. We are issuing this AD to detect and correct fatigue cracking in the pressurized floor fittings at frame 36, which could result in failure of a floor fitting and subsequent depressurization of the fuselage.

(f) Compliance

Comply with this AD within the compliance times specified, unless already done.

(g) Retained Inspection, With Revised Service Information

This paragraph restates the requirements of paragraph (a) of AD 96-18-06, Amendment 39-9730 (61 FR 46703, September 5, 1996), with revised service information for Airbus Model A320-211 and -231 airplanes. Prior to the accumulation of 16,000 total landings, or within 6 months after October 10, 1996 (the effective date of AD 96-18-06), whichever occurs later, perform a visual inspection to detect cracks of the 6 fittings of the pressurized floor at frame 36 under the lower surface panel, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph. Accomplishment of the initial inspection required by paragraph (i) of this AD terminates the actions required by this paragraph.

(1) If no cracking is found, prior to further flight, renew the zone protective finish, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph. Repeat the visual inspection thereafter at intervals not to exceed 12,000 landings.

(2) If only 1 of the 6 fittings is found to be cracked and that crack is less than or equal to 0.59 inch (15 mm) in length, prior to further flight, replace the cracked fitting with a new fitting, in accordance with the Accomplishment Instructions of Airbus Service Bulletin A320-57-1028, Revision 1, dated April 19, 1996; or Airbus Service Bulletin A320-57-1028, Revision 02, dated June 3, 2013. Thereafter, prior to the accumulation of 500 landings following accomplishment of this replacement, replace the remaining 5 fittings with new fittings, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph.

(3) If only 1 of the 6 fittings is found to be cracked, and that crack is greater than 0.59 inch (15 mm) in length, prior to further flight, replace all six fittings with new fittings, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph.

(4) If 2 or more fittings are found to be cracked, prior to further flight, replace all 6 fittings with new fittings, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph.

(h) Retained Optional Terminating Action, With Revised Service Information

This paragraph restates the provisions of paragraph (b) of AD 96-18-06, Amendment 39-9730 (61 FR 46703, September 5, 1996), with revised service information for Airbus Model A320-211 and -231 airplanes. Replacement of all 6 fittings with new fittings, in accordance with the Accomplishment Instructions of Airbus Service Bulletin A320-57-1028, Revision 1, dated April 19, 1996; or Airbus Service Bulletin A320-57-1028, Revision 02, dated June 3, 2013; constitutes terminating action for the inspection requirements of paragraph (g) of this AD.

(i) New Inspection

(1) At the latest of the times in paragraph (i)(1)(i), (i)(1)(ii), or (i)(1)(iii) of this AD: Do a detailed inspection of the pressurized floor fittings at frame 36, in accordance with the Accomplishment Instructions of Airbus Service Bulletin A320-57-1028, Revision 02, dated June 3, 2013. Repeat the inspection thereafter, at intervals not to exceed 9,300 flight cycles or 18,600 flight hours, whichever occurs first. Accomplishment of the initial inspection required by this paragraph terminates the actions required by paragraph (g) of this AD.

(i) Prior to the accumulation of 20,900 total flight cycles or 41,800 total flight hours, whichever occurs first.

(ii) Prior to the accumulation of 9,300 flight cycles or 18,600 flight cycles since the most recent inspection required by paragraph (g) or (i) of this AD, whichever occurs first.

(iii) At the earlier of the times specified in paragraph (i)(1)(iii)(A) and (i)(1)(iii)(B) of this AD.

(A) Prior to the accumulation of 1,250 flight cycles or 2,500 flight hours after the effective date of this AD, whichever occurs first.

(B) Prior to the accumulation of 12,000 flight cycles since the most recent inspection required by paragraph (g) or (i) of this AD.

(2) If any crack is found during any inspection required by paragraph (i)(1) of this AD: Before further flight, repair using a method approved by the Manager, International Branch, ANM-116, Transport Airplane Directorate, FAA; or the European Aviation Safety Agency (EASA); or Airbus's EASA Design Organization Approval (DOA).

(j) New Optional Terminating Action

Modification (replacement of aluminum fittings with titanium fittings) of the pressurized floor fittings at frame 36, in accordance with the Accomplishment Instructions of Airbus Service Bulletin A320-57-1029, Revision 02, dated June 16, 1999, is terminating action for the repetitive inspections required by paragraphs (g) and (i) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 96-18-06, Amendment 39-9730 (61 FR 46703, September 5, 1996), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(l) Related Information

Refer to Mandatory Continuing Airworthiness Information (MCAI) EASA Airworthiness Directive 2013-0226, dated September 23, 2013, for related information. This MCAI may be found in the AD docket on the Internet at http://www.regulations.gov by searching for and locating Docket No. FAA-2015-1427.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 3, 2016.

(i) Airbus Service Bulletin A320-57-1028, Revision 02, dated June 3, 2013.

(ii) Airbus Service Bulletin A320-57-1029, Revision 02, dated June 16, 1999.

(4) The following service information was approved for IBR on October 10, 1996 (61 FR 46703, September 5, 1996).

(i) Airbus Service Bulletin A320-57-1028, Revision 1, dated April 19, 1996, which contains the following list of effective pages: Pages 1 through 3, Revision 1, dated April 19, 1996; Pages 4 through 15, dated August 12, 1991.

(ii) Reserved.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on January 9, 2016.
Michael Kaszycki,
Acting Manager, Transport Airplane Directorate, Aircraft Certification Service.

[FR Doc. 2016-00949 Filed 1-27-16; 8:45 am]

BILLING CODE 4910-13-P